SMALL BUSINESS ADMINISTRATION

[Declaration of Disaster #3590]

Commonwealth of Kentucky; Amendment #3

In accordance with a notice received from the Department of Homeland Security—Federal Emergency Management Agency, effective July 2, 2004, the above numbered declaration is hereby amended to include Boyd, Carter, Greenup, and Jackson Counties as disaster areas due to damages caused by severe storms, tornadoes, flooding, and mudslides occurring on May 26, 2004 and continuing through June 18, 2004.

In addition, applications for economic injury loans from small businesses located in the contiguous county of Lawrence in the State of Ohio may be filed until the specified date at the previously designated location. All other counties contiguous to the above named primary counties have been previously declared.

All other information remains the same, i.e., the deadline for filing applications for physical damage is August 9, 2004, and for economic injury the deadline is March 10, 2005.

(Catalog of Federal Domestic Assistance Program Nos. 59002 and 59008)

Dated: July 2, 2004.
Cheri L. Cannon,
Acting Associate Administrator for Disaster Assistance.

[FR Doc. 04-15740 Filed 7-9-04; 8:45 am]

BILLING CODE 8025-01-P